NATIONAL CREDIT UNION ADMINISTRATION

Agency Information Collection Activities: Amendment to Generic Clearance for the Collection of Qualitative Feedback on Agency Service Delivery; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection notice is published to obtain comments from the public. In connection with NCUA's effort to streamline the process and increase feedback obtained from the public on service delivery, NCUA intends to amend, 3133-0188, “Generic Clearance for the Collection of Qualitative Feedback on Agency Service Delivery”.

DATES: Comments will be accepted until March 23, 2015.

ADDRESSES: Interested persons are invited to submit written comments on the information collection to Jessica Khouri, National Credit Union Administration, 1775 Duke Street, Alexandria, Virginia 22314-3428, Fax No. 703-837-2861, Email: OCIOPRA@ncua.gov.

FOR FURTHER INFORMATION CONTACT: Requests for additional information, a copy of the information collection request, or a copy of submitted comments should be directed to Jessica Khouri at the National Credit Union Administration, 1775 Duke Street, Alexandria, VA 22314-3428, by fax at Fax No. 703-837-2861, or by email at OCIOPRA@ncua.gov.

SUPPLEMENTARY INFORMATION:

I. Abstract and Request for Comments

NCUA intends to amend the current collection 3133-0188, “Generic Clearance for the Collection of Qualitative Feedback on Agency Service Delivery.” The proposed amendment intends to increase the hours available to obtain feedback on services provided by NCUA offices. NCUA anticipates using a variety of methods to collect customer satisfaction feedback from credit unions, including, but not limited to, web and paper-based surveys or feedback forms, web-based polling or other interactive responses, comment cards, and social media. The information collection activity will garner qualitative stakeholder feedback in an efficient, timely manner, in accordance with NCUA's commitment to improving service delivery. Qualitative feedback is information that provides useful insights on perceptions and opinions, but is not a statistical survey that yields quantitative results that can be generalized to the population of study. This feedback will provide insights into stakeholder perceptions, experiences and expectations, provide an early warning of issues with service, or focus attention on areas where communication, training, or changes in operations might improve delivery of products or services. These collections will allow for ongoing, collaborative, and actionable communications between NCUA and its stakeholders. It will also allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission utilizing other information collections that are designed to yield quantitative results.

NCUA requests you send comments that address: (a) The necessity of the information collection for the proper performance of NCUA, including whether the information will have practical utility; (b) the accuracy of our estimate of the burden (hours and cost) of the collection of information, including the validity of the methodology and assumptions used; (c) ways we could enhance the quality, utility, and clarity of the information to be collected; and (d) ways we could minimize the burden of the collection of information on the respondents such as through the use of automated collection techniques or other forms of information technology. It is NCUA's policy to make all comments available to the public for review.

II. Data

Title: Generic Clearance for the Collection of Qualitative Feedback on Agency Service Delivery.

OMB Number: 3133-0188.

Form Number: None.

Type of Review: Amendment of currently approved collection.

Description: The information collection activity will garner qualitative stakeholder feedback in an efficient, timely manner, in accordance with NCUA's commitment to improving service delivery. Feedback will include, but is not limited to, web- and paper-based surveys or feedback forms, web-based polling or other interactive responses, comment cards, and social media.

Respondents: Non-Profit Institutions, Individuals and Households, Businesses and Organizations, State, Local or Tribal Government.

Estimated Number of Respondents: 40,600.

Frequency of Response: Varies.

Estimated Burden Hours per Response: Varies (4-20 minutes), depending on feedback method.

Estimated Total Annual Burden Hours: 23,789 hours.

Estimated Total Annual Cost to Respondents: 0.

By the National Credit Union Administration Board on January 14, 2015.
Gerard Poliquin,
Secretary of the Board.

[FR Doc. 2015-00974 Filed 1-21-15; 8:45 am]

BILLING CODE 7535-01-P